DEPARTMENT OF ENERGY

Federal Energy Regulatory Commission

Combined Notice of Filings #1

Take notice that the Commission received the following electric corporate filings:

Docket Numbers: EC14-83-000.

Applicants: Nevada Power Company, Nevada Sun-Peak Limited Partnership.

Description: Nevada Power Company and Nevada Sun-Peak Limited Partnership Section 203 Application.

Filed Date: 5/2/14.

Accession Number: 20140502-5246.

Comments Due: 5 p.m. ET 5/23/14.

Docket Numbers: EC14-84-000.

Applicants: Nevada Power Company, Las Vegas Cogeneration LP, Las Vegas Cogeneration II, LLC.

Description: Nevada Power Company, Las Vegas Cogeneration Limited Partnership, et al Section 203 Application.

Filed Date: 5/2/14.

Accession Number: 20140502-5253.

Comments Due: 5 p.m. ET 5/23/14.

Take notice that the Commission received the following electric rate filings:

Docket Numbers: ER10-1569-009; ER10-2361-002; ER10-2575-002; ER10-2381-002; ER10-2947-008; ER10-2369-002; ER10-2360-002; ER10-2359-002; ER11-2857-013; ER10-2358-002; ER13-2050-004; ER13-2020-004; ER13-2107-004; ER10-2357-002; ER10-2356-002; ER11-2856-013; ER10-2382-002; ER10-1580-011; ER10-3143-011; ER12-21-014; ER10-2783-008; ER10-2784-008; ER11-2855-013; ER10-2791-009; ER10-2333-002; ER14-1865-001; ER10-2792-009; ER14-1818-001; ER12-1238-00; ER10-1564-009; ER10-1565-009; ER10-2337-003; ER10-2795-008; ER10-2798-008; ER10-1575-007; ER10-2339-003; ER10-2338-003; ER10-2340-003; ER12-1239-002; ER10-2336-002; ER10-2335-002; ER10-2799-008; ER10-2801-008; ER10-2385-002; ER11-3727-009; ER10-1566-009; ER12-2413-007; ER11-2062-010; ER10-2346-002; ER10-2812-007; ER10-1291-011; ER10-2843-006; ER11-2508-009; ER11-2683-001; ER11-2805-009; ER11-4308-010; ER11-4351-003; ER10-2969-008; ER13-1965-004; ER10-2931-009; ER11-3459-008; ER11-4307-010; ER10-2347-002; ER10-2348-002; ER12-1711-009; ER10-2350-002; ER10-2846-008; ER12-261-009; ER10-2871-006; ER10-2351-002; ER10-2875-008; ER12-2398-008; ER10-1582-008; ER12-2019-008; ER12-1525-009; ER10-2915-008; ER10-2916-008; ER13-1802-003; ER13-1801-003; ER13-1799-003; ER10-2368-002; ER10-2352-002; ER10-1568-009; ER10-1581-011; ER10-2353-002; ER10-2876-009; ER10-2878-008; ER10-2354-003; ER10-2355-003; ER10-2914-010; ER13-1746-006; ER13-1791-003; ER10-2913-008; ER10-2896-008; ER13-1790-005; ER13-1789-003; ER10-2879-008; ER10-2384-003; ER10-2383-003; ER10-2880-008.

Applicants: NRG Power Marketing LLC, Agua Caliente Solar, LLC, Arthur Kill Power LLC, Astoria Gas Turbine Power LLC, Avenal Park LLC, Bayou Cove Peaking Power, LLC, Bendwind, LLC, BETM Solutions LLC, Big Cajun I Peaking Power LLC, Boston Energy Trading and Marketing LLC, Broken Bow Wind, LLC, Cabrillo Power I LLC, Cabrillo Power II LLC, CL Power Sales Eight, L.L.C., Conemaugh Power LLC, Connecticut Jet Power LLC, Cottonwood Energy Company LP, CP Power Sales Seventeen, L.L.C., CP Power Sales Nineteen, L.L.C., CP Power Sales Twenty, L.L.C., Crofton Bluffs Wind, LLC, DeGreeff DP, LLC, DeGreeffpa, LLC, Devon Power LLC, Dunkirk Power LLC, Elkhorn Ridge Wind, LLC, El Segundo Energy Center LLC, El Segundo Power, LLC, Energy Alternatives Wholesale, LLC, Energy Plus Holdings LLC, Forward WindPower, LLC, GenConn Devon LLC, GenConn Energy LLC, GenConn Middletown LLC, GenOn Energy Management, LLC, GenOn Mid-Atlantic, LLC, Green Mountain Energy Company, Groen Wind, LLC, High Lonesome Mesa, LLC, High Plains Ranch II, LLC, Hillcrest Wind, LLC, Huntley Power LLC, Independence Energy Group LLC, Indian River Power LLC, Jeffers Wind 20, LLC, Keystone Power LLC, Laredo Ridge Wind, LLC, Larswind, LLC, Long Beach Generation LLC, Long Beach Peakers LLC, Lookout WindPower, LLC, Louisiana Generating LLC, Middletown Power LLC, Midway-Sunset Cogeneration Company, Midwest Generation LLC, Montville Power LLC, Mountain Wind Power, LLC, Mountain Wind Power II, LLC, NEO Freehold-Gen LLC, North Community Turbines LLC, North Wind Turbines LLC, Norwalk Power LLC, NRG Bowline, LLC, NRG California South LP, NRG Canal LLC, NRG Chalk Point LLC, NRG Delta LLC, NRG Energy Center Dover LLC, NRG Energy Center Paxton LLC, NRG Florida LP, NRG Marsh Landing LLC, NRG New Jersey Energy Sales LLC, NRG Potomac River LLC, NRG Power Midwest LP, NRG REMA LLC, NRG Rockford LLC, NRG Rockford II LLC, NRG Solar Alpine LLC, NRG Solar Avra Valley LLC, NRG Solar Blythe LLC, NRG Solar Borrego I LLC, NRG Solar Roadrunner LLC, NRG Sterlington Power LLC, NRG Wholesale Generation LP, Oswego Harbor Power LLC, Pinnacle Wind, LLC, Reliant Energy Northeast LLC, RRI Energy Services, LLC, Sabine Cogen, LP, Saguaro Power Company, a Limited Partnership, San Juan Mesa Wind Project, LLC, Sand Drag LLC, Sierra Wind, LLC, Sleeping Bear, LLC, Solar Partners I, LLC, Solar Partners II, LLC, Solar Partners VIII, LLC, Storm Lake Power Partners I LLC, Sun City Project, Sunrise Power Company, LLC, TAIR Windfarm, LLC, Taloga Wind, LLC, Vienna Power LLC, Walnut Creek Energy, LLC, Watson Cogeneration Company, Wildorado Wind, LLC.

Description: Notice of Non-Material Change in Status of NRG MBR Entities.

Filed Date: 5/1/14.

Accession Number: 20140501-5439.

Comments Due: 5 p.m. ET 5/22/14.

Docket Numbers: ER10-1851-003, ER10-1976-004; ER10-1966-004; ER10-1985-004; ER11-4462-006; ER10-1971-013; ER10-1930-003; ER10-1931-004; ER12-2225-003; ER12-2226-003.

Applicants: ESI Vansycle Partners, L.P., FPL Energy Stateline II, Inc., FPL Energy Vansycle, L.L.C., Limon Wind, LLC, Limon Wind II, LLC, Logan Wind Energy LLC, Northern Colorado Wind Energy, Peetz Table Wind Energy, LLC, NextEra Energy Power Marketing, NEPM II, LLC.

Description: Supplement to December 23, 2013 Triennial Market Power Update for Northwest Region of the NextEra Companies.

Filed Date: 5/1/14.

Accession Number: 20140501-5405.

Comments Due: 5 p.m. ET 5/22/14.

Docket Numbers: ER11-3376-002; ER11-3377-002; ER11-3378-002.

Applicants: North Hurlburt Wind, LLC, Horseshoe Bend Wind, LLC, South Hurlburt Wind, LLC.

Description: Amendment to March 7, 2014 Trienniel Updated Market Power Analysis of Horseshoe Bend Wind, LLC, North Hurlburt Wind, LLC and South Hurlburt Wind, LLC and Request for Shortened Comment Period.

Filed Date: 4/21/14.

Accession Number: 20140421-5124.

Comments Due: 5 p.m. ET 5/12/14.

Docket Numbers: ER14-1865-000.

Applicants: BETM Solutions LLC.

Description: Notice of Succession and Revisions to Market-Based Rate Tariff to be effective 5/3/2014.

Filed Date: 5/2/14.

Accession Number: 20140502-5212.

Comments Due: 5 p.m. ET 5/23/14.

Docket Numbers: ER14-1866-000.

Applicants: CL Power Sales Eight, L.L.C.

Description: Revised Market-Based Rate Tariff to be effective 5/3/2014.

Filed Date: 5/2/14.

Accession Number: 20140502-5213.

Comments Due: 5 p.m. ET 5/23/14.

Docket Numbers: ER14-1867-000.

Applicants: Larswind, LLC.

Description: Revised Market-Based Rate Tariff to be effective 5/3/2014.

Filed Date: 5/2/14.

Accession Number: 20140502-5214.

Comments Due: 5 p.m. ET 5/23/14.

Docket Numbers: ER14-1868-000.

Applicants: New York Independent System Operator, Inc.

Description: NYISO 205 OATT revisions re: M2M coordination process when NY is in storm watch to be effective 6/11/2014.

Filed Date: 5/2/14.

Accession Number: 20140502-5217.

Comments Due: 5 p.m. ET 5/23/14.

Docket Numbers: ER14-1869-000.

Applicants: Lookout WindPower LLC.

Description: Revised Market-Based Rate Tariff to be effective 5/3/2014.

Filed Date: 5/2/14.

Accession Number: 20140502-5218.

Comments Due: 5 p.m. ET 5/23/14.

Docket Numbers: ER14-1870-000.

Applicants: Pinnacle Wind, LLC.

Description: Revised Market-Based Rate Tariff to be effective 5/3/2014.

Filed Date: 5/2/14.

Accession Number: 20140502-5224.

Comments Due: 5 p.m. ET 5/23/14.

Docket Numbers: ER14-1871-000.

Applicants: Sierra Wind, LLC.

Description: Revised Market-Based Rate Tariff to be effective 5/3/2014.

Filed Date: 5/2/14.

Accession Number: 20140502-5225.

Comments Due: 5 p.m. ET 5/23/14.

Docket Numbers: ER14-1872-000.

Applicants: Midcontinent Independent System Operator, Inc.

Description: 2014-05-02_SA 2650 METC E&P Agreement to be effective 5/3/2014.

Filed Date: 5/2/14.

Accession Number: 20140502-5232.

Comments Due: 5 p.m. ET 5/23/14.

Docket Numbers: ER14-1873-000.

Applicants: Dominion Energy Marketing, Inc.

Description: Compliance Filing—DEMI et al. MBR Tariff BD Waiver to be effective 5/3/2014.

Filed Date: 5/2/14.

Accession Number: 20140502-5236.

Comments Due: 5 p.m. ET 5/23/14.

Docket Numbers: ER14-1874-000.

Applicants: NedPower Mount Storm, LLC.

Description: Compliance Filing—NedPower MBR Tariff Bus. Development Waiver to be effective 5/3/2014.

Filed Date: 5/5/14.

Accession Number: 20140505-5000.

Comments Due: 5 p.m. ET 5/27/14.

Docket Numbers: ER14-1875-000.

Applicants: Fowler Ridge Wind Farm LLC.

Description: Compliance Filing—Fowler MBR Tariff Bus. Development Waiver to be effective 5/3/2014.

Filed Date: 5/5/14.

Accession Number: 20140505-5001.

Comments Due: 5 p.m. ET 5/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2014.
Kimberly D. Bose,
Secretary.

[FR Doc. 2014-10879 Filed 5-12-14; 8:45 am]

BILLING CODE 6717-01-P